DEPARTMENT OF TRANSPORTATION

Federal Aviation Administration

14 CFR Part 39

[Docket No. FAA-2006-25891; Directorate Identifier 2006-NM-186-AD]

RIN 2120-AA64

Airworthiness Directives; Airbus Model A300 and A310 Airplanes; and Model A300 B4-600, B4-600R, and F4-600R Series Airplanes, and Model C4-605R Variant F Airplanes (Collectively Called A300-600 Series Airplanes)

AGENCY: Federal Aviation Administration (FAA), Department of Transportation (DOT).

ACTION: Notice of proposed rulemaking (NPRM).

SUMMARY: The FAA proposes to adopt a new airworthiness directive (AD) for certain Airbus Model A300 and A310 airplanes; and Model A300 B4-600, B4-600R, and F4-600R series airplanes, and Model C4-605R Variant F airplanes (collectively called A300-600 series airplanes). This proposed AD would require replacing the pressure limiter of the parking brake system with a new or modified pressure limiter. This proposed AD results from a report indicating that failure of the parking brake system occurred on a Model A300-600 airplane. We are proposing this AD to prevent failure of the parking braking system and interference with emergency use of the brake pedals, which could lead to airplane collision with surrounding objects or departure from the runway.

DATES: We must receive comments on this proposed AD by October 26, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Comments Invited

We invite you to submit any relevant written data, views, or arguments regarding this proposed AD. Send your comments to an address listed in the ADDRESSES section. Include the docket number “FAA-2006-25891; Directorate Identifier 2006-NM-186-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The European Aviation Safety Agency (EASA), which is the airworthiness authority for the European Union, notified us that an unsafe condition may exist on certain Airbus Model A300 and A310 airplanes; and Model A300 B4-600, B4-600R, and F4-600R series airplanes, and Model C4-605R Variant F airplanes (collectively called A300-600 series airplanes). The EASA advises it has received a report indicating that a failure of the parking brake system occurred on a Model A300-600 airplane. After the airplane had been braked to a halt with both engines running and the parking brake applied, the airplane began to move again. As engaging the parking brake inhibits all other braking modes by design, the flightcrew was unable to stop the airplane using the brake pedals. Investigation revealed that a wire intended to reduce the area of one internal port of the parking brake pressure limiter had broken and caused excess restriction of the port, which delayed the buildup of parking brake pressure. This condition, if not corrected, could cause failure of the parking braking system and interference with emergency use of the brake pedals, which could lead to airplane collision with surrounding objects or departure from the runway.

Relevant Service Information

We have reviewed the Airbus service bulletins described in the following table. The service bulletins describe procedures for replacing the pressure limiter of the parking brake system with a new or modified pressure limiter—modification includes removing a certain wire and installing a new pressure restrictor. Accomplishing the actions specified in the service information is intended to adequately address the unsafe condition.

Airbus Service Information
For all model | Use service bulletin | Dated
A300 airplanes | A300-32-0448 | February 22, 2006.
A300 B4-600, B4-600R, and F4-600R series airplanes | A300-32-6094 | February 22, 2006.
A310 airplanes | A310-32-2133 | February 22, 2006.

The EASA mandated the service information and issued airworthiness directive 2006-0178, dated June 26, 2006, to ensure the continued airworthiness of these airplanes in the European Union.

The service bulletins refer to Messier—Bugatti Service Bulletin C24264-32-848, dated February 15, 2006, as an additional source of service information for modifying the parking brake pressure limiter.

FAA's Determination and Requirements of the Proposed AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for airplanes of this type design that are certificated for operation in the United States.

Therefore, we are proposing this AD, which would require accomplishing the actions specified in the service information described previously.

Costs of Compliance

This proposed AD would affect about 229 airplanes of U.S. registry. The proposed actions would take about 2 work hours per airplane, at an average labor rate of $80 per work hour. The manufacturer states that it will supply required parts to the operators at no cost. Based on these figures, the estimated cost of the proposed AD for U.S. operators is $36,640, or $160 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-25891; Directorate Identifier 2006-NM-186-AD.

Comments Due Date

(a) The FAA must receive comments on this AD action by October 26, 2006.

Affected ADs

(b) None.

Applicability

(c) This AD applies to Airbus Model A300 and A310 airplanes; and Model A300 B4-601, B4-603, B4-620, B4-622, B4-605R, B4-622R, F4-605R, F4-622R, and C4-605R Variant F airplanes; certificated in any category; except for airplanes on which Airbus Modification 12994 has been embodied in production.

Unsafe Condition

(d) This AD results from a report indicating that failure of the parking brake system occurred on a Model A300-600 airplane. We are issuing this AD to prevent failure of the parking braking system and interference with emergency use of the brake pedals, which could lead to airplane collision with surrounding objects or departure from the runway.

Compliance

(e) You are responsible for having the actions required by this AD performed within the compliance times specified, unless the actions have already been done.

Pressure Limiter Replacement

(f) Within 18 months after the effective date of this AD, replace the pressure limiter of the parking brake system with a new or modified pressure limiter having part number (P/N) C24264-303 or C24264004-1, as applicable, in accordance with the Accomplishment Instructions of the applicable service bulletin specified in Table 1 of this AD.

Table 1.—Airbus Service Information
For all model | Use Airbus Service Bulletin | Dated
A300 airplanes | A300-32-0448 | February 22, 2006.
A300 B4-601, B4-603, B4-620, B4-622, B4-605R, B4-622R, F4-605R, F4-622R, and C4-605R Variant F airplanes | A300-32-6094 | February 22, 2006.
A310 airplanes | A310-32-2133 | February 22, 2006.

Note 1: The Airbus service bulletins refer to Messier-Bugatti Service Bulletin C24264-32-848, dated February 15, 2006, as an additional source of service information for modifying the parking brake pressure limiter.

Parts Installation

(g) As of the effective date of this AD, no person may install, on the parking brake system of any airplane, a pressure limiter having P/N C24264-302 or C24264004.

Alternative Methods of Compliance (AMOCs)

(h)(1) The Manager, International Branch, ANM-116, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) European Aviation Safety Agency (EASA) airworthiness directive 2006-0178, dated June 26, 2006, also addresses the subject of this AD.

Issued in Renton, Washington, on September 14, 2006.
Kalene C. Yanamura,
Acting Manager, Transport Airplane Directorate, Aircraft Certification Service.

[FR Doc. 06-8222 Filed 9-25-06; 8:45 am]

BILLING CODE 4910-13-P